DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with changes to Form FE-746R, “Natural Gas Imports and Exports,” OMB Control Number 1901-0294. The information collection request supports DOE's Office of Fossil Energy (FE) in gathering critical information on the U.S. trade in natural gas, including liquefied natural gas (LNG). The data are used to monitor natural gas trade, assess the adequacy of U.S. energy resources to meet near and longer term domestic demands, and support various market and regulatory analyses done by FE.

DATES: Comments on this information collection must be received no later than April 8, 2019. If you anticipate any difficulties in submitting your comments by the deadline, contact the DOE Desk Officer at (202) 395-0710.

ADDRESSES: Written comments should be sent to:

DOE Desk Officer: Brandon DeBruhl, Office of Information and Regulatory Affairs, Office of Management and Budget, New Executive Office Building, Room 10102, 735 17th Street NW, Washington, DC 20503. Brandon_F_DeBruhl@omb.eop.gov.

Marc Talbert, U.S. Department of Energy (FE-34), Office of Regulation and International Engagement, Office of Fossil Energy, Forrestal Building, Room 3E-042, 1000 Independence Avenue SW, Washington, DC 20503. marc.talbert@hq.doe.gov.

FOR FURTHER INFORMATION CONTACT: Marc Talbert, (202) 586-7991, marc.talbert@hq.doe.gov. Form FE-746R and its instructions can be viewed at http://energy.gov/fe/services/naturalgas-regulation/guidelines-filingmonthly-reports.

SUPPLEMENTARY INFORMATION: This information collection request contains:

(1) OMB No. 1901-0294;

(2) Information Collection Request Title: “Natural Gas Imports and Exports;”

(3) Three-year extension with changes;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. Additionally, FE is authorized to regulate natural gas imports and exports, including LNG, under 15 U.S.C. 717b. In order to carry out its statutory responsibilities, FE requires anyone seeking to import or export natural gas to file an application and provide basic information on the scope and nature of the proposed import/export activity. Additionally, once an importer or exporter receives an authorization from FE, they are required to submit monthly reports of all import and/or export transactions.

Specifically, the Form FE-746R requires the reporting of the following information by every holder of a DOE/FE import or export authorization: The name of importer/exporter; country of origin/destination; international point of entry/exit; name of supplier; volume; price; transporters; U.S. geographic market(s) served; and duration of supply contract on a monthly basis. This information is used by both EIA and FE to assess the adequacy of energy resources to meet near and longer term domestic demands, and by FE in the management of its natural gas regulatory program.

Data collected on Form FE-746R are published in Natural Gas Imports and Exports, LNG Monthly Report, and in EIA official statistics on U.S. natural gas supply and disposition. In addition, the data are used to monitor the North American natural gas trade, which, in turn, enables the Federal government to perform market and regulatory analyses; improve the capability of industry and the government to respond to any future energy-related supply problems; and keep the general public informed of international natural gas trade;

(4a) Changes to Information Collection: FE will collect heat content in Btu per cubic foot for LNG imports and exports to account for variations in the heat content of gas being imported from and exported to various countries. This change improves the quality of the import and export volume data by applying an objective standardized unit of measurement. Also, FE will use the exemptions under the Freedom of Information Act (FOIA) to protect certain information reported on Form FE-746R, including the heat content of LNG imported and exported, prices of natural gas (including LNG) imported and exported, and the specific purchaser and end-user. The data protection statement for information reported on Form FE-746R will read:

“Information reported on Form FE-746R is considered public information and may be publicly released in company identifiable form, except that the following information will be protected and not disclosed to the public to the extent that it satisfies the criteria for exemption under the Freedom of Information Act (FOIA), 5 U.S.C. 552, as amended, and the Department of Energy (DOE) regulations, 10 C.FR. § 1004.11, implementing the FOIA:

• Price at Import or Export Point for all forms of natural gas imported and exported, including LNG;

• Name of the Specific Purchaser/End User for all forms of natural gas imports and exports, including LNG, for all modes of transportation except by pipeline; and

• Heat content for all forms of natural gas imported and exported.”

Published LNG import and export prices will no longer be reported for each individual cargo, but rather will be aggregated for all LNG cargoes by month at each point of export. This change is consistent with the publication of statistical aggregates for the prices reported for natural gas imported and exported by pipeline. Additionally, there may be some statistics that are based on data from fewer than three import or export transactions. In these cases, it may be possible for a knowledgeable person to closely estimate the information reported by a specific respondent.

Data protection methods will not be applied to the aggregate statistical data published from submissions on Form FE-746R.

(5) Annual Estimated Number of Respondents: 371;

(6) Annual Estimated Number of Total Responses: 4,452;

(7) Annual Estimated Number of Burden Hours: 13,356;

(8) Annual Estimated Reporting and Recordkeeping Cost Burden: The cost of the burden hours is estimated to be $988,611. EIA estimates that there are no additional costs to respondents associated with the surveys other than the costs associated with the burden hours.

Statutory Authority: 15 U.S.C. 772(b), 42 U.S.C. 7101 et seq., 15 U.S.C. 717b.

Signed in Washington, DC, on March 4, 2019.
Shawn Bennett,
Deputy Assistant Secretary, Office of Oil and Natural Gas.

[FR Doc. 2019-04204 Filed 3-7-19; 8:45 am]

BILLING CODE 6450-01-P